DEPARTMENT OF HOMELAND SECURITY

Federal Emergency Management Agency

44 CFR Part 67

[Docket No. FEMA-B-7473]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency, (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet aboveground *Elevation in feet (NGVD) +Elevation in feet (NAVD): Existing | #Depth in feet aboveground *Elevation in feet (NGVD) +Elevation in feet (NAVD): Modified
City of Cabot, Arkansas
Arkansas | City of Cabot | Bayou Two Prairie Tributary | Approximately 150 feet upstream from the intersection with West Main Street | None | +288
|  |  | Intersection of Deer Creek Road | None | +299
Arkansas | City of Cabot | Hudson Branch | Upstream face of Highway 367 | None | +272
|  |  | Approximately 850 feet upstream from the intersection with Mockingbird Lane | None | +287
# Depth in feet above ground.
* National Geodetic Vertical Datum.
+ North American Vertical Datum.
ADDRESSES
Maps are available for inspection at 114 South 1st Street, Cabot, Arkansas 72023.
Send comments to The Honorable Mickey Spunbaugh, Mayor, City of Cabot, 101 North 2nd Street, Cabot, AR 72023.
Unincorporated Areas of Lonoke County, Arkansas
Arkansas | Unincorpo­rated Areas of Lonoke County | Hudson Branch Creek Tributary | Confluence with Hudson Branch Creek | None | +260
|  |  | Approximately 700 feet upstream from the intersection with Main Street | None | +314
# Depth in feet above ground.
* National Geodetic Vertical Datum.
+ North American Vertical Datum.
ADDRESSES
Maps are available for inspection at 200 North Center Street, Lonoke, AR 72007.
Send comments to The Honorable Charlie Troutman, Judge, Lonoke County, 301 North Center Street, Suite 201, Lonoke, AR 72086.
City of Ward, Arkansas
Arkansas | City of Ward | Cypress Bayou Tributary 11 | Confluence with Morrison Street | None | +225
|  |  | Approximately 50 feet upstream from the intersection with Brewer Street | None | +234
Arkansas | City of Ward | Cypress Bayou Tributary 11.1 | Confluence with Cypress Bayou 11 | None | +227
|  |  | Intersection with Cross Street | None | +241
# Depth in feet above ground.
* National Geodetic Vertical Datum.
+ North American Vertical Datum.
ADDRESSES
Maps are available for inspection at 405 Hickory Street, Ward, Arkansas 72126.
Send comments to The Honorable Art Brooke, Mayor, City of Ward, P.O. Box 237, Ward, AR 72176.
City of Eureka, Utah
Utah | City of Eureka | Eureka Gulch | Approximately 0.30 miles downstream of Church Street | +6,305 | +6,306
|  |  | Approximately 830 feet upstream of Church Street | +6,395 | +6,396
Utah | City of Eureka | Eureka Gulch | Approximately 490 feet upstream of Spring Street | +6,529 | +6,528
|  |  | Approximately 425 feet upstream of Bulk Plant Road | None | +6,569
# Depth in feet above ground.
* National Geodetic Vertical Datum.
+ North American Vertical Datum.
ADDRESSES
City of Eureka
Maps are available for inspection at: City Hall, 15 North Church Street, Eureka, Utah.
Send comments to: Honorable Lloyd Conder, Mayor, City of Eureka, P.O. Box 156, Eureka, Utah 84626.

Flooding source(s) | Location of referenced elevation | *Elevation in feet (NGVD) +Elevation in feet (NAVD) # Depth in feet above ground: ¹ Effective | *Elevation in feet (NGVD) +Elevation in feet (NAVD) # Depth in feet above ground: Modified | Communities affected
Walker County, Georgia, and Incorporated Areas
Andrews Street Tributary | At confluence with Tributary to Chattanooga Creek | +691 | +690 | City of Rossville.
| Approximately 35 feet upstream of confluence with Tributary to Chattanooga Creek | +691 | +690
# Depth in feet above ground.
* National Geodetic Vertical Datum.
+ North American Vertical Datum.
¹ The existing elevation data included on the effective FIRM is printed in the elevation datum of the National Geodetic Vertical Datum of 1929 (NGVD29). In order to convert this printed elevation data from the NGVD29 datum to the NAVD88 datum, please add 0.02.
ADDRESSES
City of Rossville, Walker County, Georgia
Maps are available for inspection at Rossville City Government, 220 Ellis Road, Rossville, Georgia 30741.
Send comments to The Honorable John Baker, Mayor, City of Rossville, P.O. Box 159, Rossville, Georgia 30741.
McClain County, Oklahoma, and Incorporated Areas
Beaver Creek | Confluence with Walnut Creek | *1038 | +1042 | City of Purcell.
| Purcell Lake | None | +1049
Crooked Bridge Creek | Approximately 2000 feet downstream of the intersection with State Route 74 | None | +1102 | Town of Goldsby.
| Approximately 2800 feet upstream from the intersection with State Route 746 | None | +1198
Walnut Creek | Approximately 100 feet upstream from intersection with Interstate Highway 35 | *1047 | +1045 | City of Purcell, McClain County (Unincorporated Areas).
| Approximately 3000 feet upstream from the intersection with W. Adams Street | *1051 | +1049
# Depth in feet above ground.
* National Geodetic Vertical Datum.
+ North American Vertical Datum.
ADDRESSES
City of Purcell
Maps are available for inspection at 230 W. Main, Purcell, OK 73080.
Send comments to The Honorable Betty Gerhard, Mayor, City of Purcell, 230 W. Main, Purcell, OK 73080.
Town of Goldsby
Maps are available for inspection at 100 E. Center Rd., Goldsby, OK 73093.
Send comments to The Honorable Glenn Berglan, Mayor, Town of Goldsby, 100 E. Center Rd., Goldsby, OK 73093.
Unincorporated Areas of McClain County
Maps are available for inspection at 121 N. 2nd, Purcell, OK 73080.
Send comments to Charles Foster, Chairman, McClain County, 121 N. 2nd, Purcell, OK 73080.

Flooding source(s) | Location of referenced elevation | *Elevation in feet (NGVD) +Elevation in feet (NAVD) # Depth in feet above ground: Effective | *Elevation in feet (NGVD) +Elevation in feet (NAVD) # Depth in feet above ground: Modified | Communities affected
Montour County, Pennsylvania, and Incorporated Areas
Mahoning Creek | Approximately 7345 feet downstream of Northumberland Street | *459 | +460 | Borough of Danville, Township of Mahoning.
| Approximately 1310 feet upstream of Northumberland Street | *460 | +461
Roaring Creek | Approximately 1310 feet downstream of River Drive | *467 | +470 | Township of Mayberry.
| Approximately 980 feet upstream of River Drive | *467 | +470
Sechler Run | Approximately 215 feet downstream of Rooney Avenue Bridge | *459 | +461 | Borough of Danville.
| Approximately at 1210 feet upstream of Railroad Street | *460 | +461
Susquehanna River | Approximately at 9500 feet downstream of Factory Street, at the Montour County Line | *458 | +459 | Township of Mayberry, Borough of Danville, Township of Cooper, Township of Mahoning.
| Approximately 6.4 miles upstream of Factory Street, at the Montour County Line | *467 | +471
# Depth in feet above ground.
* National Geodetic Vertical Datum.
+ North American Vertical Datum.
ADDRESSES
Borough of Danville
Maps are available for inspection at 239 Mill Street, Danville, PA 17821.
Send comments to The Honorable Ed Coleman, Mayor, Danville Borough, 239 Mill Street, Danville, PA 17821.
Township of Cooper
Maps are available for inspection at 19 Steltz Road, Danville, PA.
Send comments to Mr. Terry L. Heimbach, Chairman of Board of Supervisors, 216 Reinaker Road, Danville, PA 17821.
Township of Mahoning
Maps are available for inspection at 1101 Bloom Road, Danville, PA 17821.
Send comments to Ms. Christine A. Delong, Chairperson of Board of Supervisors, 1101 Bloom Road, Danville, PA 17821.
Township of Mayberry
Maps are available for inspection at 53 Sunset Road, Catawissa, PA 17820.
Send comments to Mr. David E. Bird, Chairman of Board of Supervisors, 68 W Onderview Road, Catawissa, PA 17820.
Snyder County, Pennsylvania, and Incorporated Areas
Middle Creek | Approximately 550 feet upstream of Middle Creek Road | *433 | +433 | Township of Union, Township of Penn.
| Approximately 750 feet downstream of Legislative Route 229 | *433 | +433
Penns Creek | Approximately at Penns Creeks confluence with the Susquehanna River | *430 | +431 | Borough of Selinsgrove, Township of Penn, Township of Union.
| Approximately 3250 feet downstream of Gravel Pit Road | *439 | +439
Penns Creek | Approximately 7000 feet downstream of Legislative Route 509 | None | +452
| Approximately 7200 feet upstream of Legislative Route 509 | None | +466
Silver Creek | Approximately 780 feet downstream of U.S. Routes 11 & 15 | *422 | +420 | Township of Union.
| Approximately 980 feet upstream of U.S. Routes 11 & 15 | *422 | +421
South Tributary | Approximately 420 feet downstream of Market Street | *433 | +435 | Township of Penn, Borough of Selinsgrove.
| Just upstream of West Sandhill Road | *433 | +435
Susquehanna River | Approximately at the Juniata & Snyder County boundary | *409 | +405 | Township of Penn, Borough of Selinsgrove, Borough of Shamokin Dam, Township of Chapman, Township of Monroe, Township of Union.
| Approximately at Route 11 at the boundary of Snyder & Union Counties | *448 | +448
West Mahantango Creek | Approximately at West Mahantango Creeks Confluence with Susquehanna River | *409 | +405 | Township of Chapman.
| Approximately 175 feet downstream of Old Trail Road | *409 | +405
# Depth in feet above ground.
* National Geodetic Vertical Datum.
+ North American Vertical Datum.
ADDRESSES
Borough of Selinsgrove
Maps are available for inspection at 1 North High Street, Selinsgrove, PA 17870.
Send comments to The Honorable Dianne K. Mengel, President of Borough Council, 1 North High Street, Selinsgrove, PA 17870.
Borough of Shamokin Dam
Maps are available for inspection at 144 West Eighth Ave, Shamokin Dam, PA 17876.
Send comments to The Honorable G. Robert Herbert, President of Borough Council, 126 Snyder Street, Shamokin Dam, PA 17876.
Township of Chapman
Maps are available for inspection at 1151 Wagner Hill Road, Port Trevorton, PA 17864.
Send comments to Mr. Foster S. Straub, Chairman of Board of Supervisors, 2550 Hoffer Road, Port Trevorton, PA 17864.
Township of Jackson
Maps are available for inspection at 57 Municipal Road, Winfield, PA 17889.
Send comments to Mr. Shawn N. Ressler, Chairman of Board of Supervisors, 57 Municipal Road, Winfield, PA 17889.
Township of Monroe
Maps are available for inspection at 39 Municipal Drive, Selinsgrove, PA 17870.
Send comments to Mr. Timothy Wolfe, Chairman of Board of Supervisors, 39 Municipal Drive, Selinsgrove, PA 17870.
Township of Penn
Maps are available for inspection at 12 Clifford Road, Selinsgrove, PA 17870.
Send comments to Mr. Frederick Ulrich, Chairman of Board of Supervisors, 12 Clifford Road, Selinsgrove, PA 17870
Township of Union
Maps are available for inspection at 1510 McNess Road, Port Trevorton, PA 17864.
Send comments to Mr. George T. Markley, Chairman of Board of Supervisors, 1510 McNess Road, Port Trevorton, PA 17864.
Brown County, South Dakota, and Incorporated Areas
4th Street Drainageway | Approximately 400 feet downstream of Sixth Street | +1,297 | +1,295 | City of Groton.
| Approximately 200 feet downstream of Sixth Street | +1,302 | +1,296
| Approximately 300 feet upstream of 13th Avenue/Highway 12 | +1,303 | +1,302
# Depth in feet above ground.
* National Geodetic Vertical Datum.
+ North American Vertical Datum.
ADDRESSES
City of Groton
Maps are available for inspection at City Hall, 204 North Main Street, Groton, South Dakota 57445.
Send comments to the Honorable Gerald Rix, Mayor, City of Groton, 209 North Main Street, Groton, South Dakota 57445.
Campbell County, Tennessee, and Incorporated Areas
Big Creek | Approximately 70 feet downstream of High Knob Road | None | +1032 | Unincorporated Areas of Campbell County.
| At the confluence with Casper Sharp Branch | None | +1032
Clear Fork | Approximately 900 feet upstream of the confluence of Rose Creek | None | +1084 | Unincorporated Areas of Campbell County.
| Approximately 2,050 feet upstream of the confluence of Rose Creek | None | +1086
Dog Creek | Just downstream of Elkins Road | None | +1032 | Unincorporated Areas of Campbell County,Town of Caryville,Town of Jacksboro.
| Approximately 1,690 feet upstream of U.S. Highway 25 | None | +1075
Dog Creek Tributary | At the confluence with Dog Creek | *1061 | +1060 | Town of Jacksboro.
| Just downstream of Eagle Bluff Road | None | +1090
Elk Creek | Approximately 800 feet upstream of railroad bridge | None | +972 | Unincorporated Areas of Campbell County.
| Approximately 1,730 feet downstream of the confluence of Burnt Pone Creek | None | +975
# Depth in feet above ground.
* National Geodetic Vertical Datum.
+ North American Vertical Datum.
ADDRESSES
Town of Caryville
Maps are available for inspection at 4839 Old Highway 63, Caryville, TN 37717.
Send comments to The Honorable Robert Stooksbury, Mayor, P. O. Box 308, Caryville, TN 37717-0308.
Town of Jacksboro
Maps are available for inspection at 585 Main Street, Jacksboro, TN 37757.
Send comments to The Honorable Jack Cannon, Mayor, P. O. Box 75, Jacksboro, TN 37757-0075.
Unincorporated Areas of Campbell County
Maps are available for inspection at County Courthouse, 195 Kentucky Street, Jacksboro, TN 37757.
Send comments to The Honorable Jerry Cross, Mayor, P. O. Box 435, Jacksboro, TN 37757.
Giles County, Tennessee, and Incorporated Areas
Branch Creek | At the confluence with Robertson Fork Creek | None | +738 | Unincorporated Areas of Giles County, City of Lynnville.
| Approximately 1,000 feet upstream of Industrial Park Road | None | +762
Branch Creek Tributary 1 | At the confluence with Branch Creek | None | +748 | City of Lynnville.
| Approximately 870 feet upstream of Mill Street | None | +763
Elk River | Approximately 2,800 feet downstream of U.S. Highway 31 | None | +607 | City of Elkton.
| Approximately 100 feet downstream of Interstate Highway 65 | None | +608
Robertson Fork Creek | Approximately 1.3 miles downstream of the confluence with Lynn Creek | *715 | +715 | Unincorporated Areas of Giles County, City of Lynnville.
| Approximately 100 feet upstream of the confluence with Branch Creek | None | +739
# Depth in feet above ground.
* National Geodetic Vertical Datum.
+ North American Vertical Datum.
ADDRESSES
City of Elkton
Maps are available for inspection at Elkton City Hall, 110 Main Street, Elkton, TN 38455.
Send comments to The Honorable Bill Ware, Mayor, P. O. Box 157, Elkton, TN 38455-0157.
City of Lynnville
Maps are available for inspection at Lynnville City Hall, 101 Mill Street, Lynnville, TN 38472.
Send comments to The Honorable Troy C. Hood, Mayor, 151 Mill Street, Lynnville, TN 38472.
Unincorporated Areas of Giles County
Maps are available for inspection at County Courthouse, Pulaski, TN 38478.
Send comments to The Honorable Janet Vanzant, Mayor, P. O. Box 678, Pulaski, TN 38478-0678.
Hardeman County, Tennessee, and Incorporated Areas
Spring Creek | Just upstream of U.S. Highway 64 | None | +352 | City of Bolivar.
| Approximately 500 feet upstream of State Highway 125 | None | +360
* National Geodetic Vertical Datum.
# Depth in feet above ground.
+ North American Vertical Datum.
ADDRESSES
City of Bolivar
Maps are available for inspection at County Tax Assessors Office, 106 Warren Street, Bolivar, TN 38008.
Send comments to The Honorable Bobby Sain, Mayor, 211 North Washington Street, Bolivar, TN 38008.
Henry County, Tennessee, and Incorporated Areas
Bailey Fork Creek Tributary 2 | At Lone Oak Road | *390 | +390 | City of Paris.
| Approximately 280 feet upstream of U.S. Highway 641 | None | +450
Clifty Creek | Approximately 1,600 feet upstream of State Highway 77 | *422 | +422 | Henry County.
| Approximately 1,940 feet upstream of State Highway 218 Bypass | None | +452
Greenbriar Creek | At the confluence with Barnes Fork | None | +377 | Henry County.
| Approximately 1,480 feet upstream of Hobby Road | None | +407
# Depth in feet above ground.
* National Geodetic Vertical Datum.
+ North American Vertical Datum.
ADDRESSES
City of Paris
Maps are available for inspection at 100 North Caldwell Avenue, Paris, TN 38242.
Send comments to The Honorable David Travis, Mayor, P.O. Box 970, Paris, TN 38242-0970.
Henry County:
Maps are available for inspection at Henry County Courthouse, 213 West Washington Street, Paris, TN 38242.
Send comments to The Honorable Brent Greer, Mayor, P.O. Box 7, Paris, TN 38242-0007.
Lauderdale County, Tennessee, and Incorporated Areas
Cane Creek 2 | At the confluence with Cane Creek | *339 | +339 | Unincorporated Areas of Lauderdale County.
| Approximately 6,600 feet upstream of Dam Site 14A | None | +369 |
Hyde Creek | At the confluence with Cane Creek | *318 | +318 | Unincorporated Areas of Lauderdale County, Town of Ripley.
| Approximately 50 feet upstream of Parrish Road | None | +379 |
# Depth in feet above ground.
* National Geodetic Vertical Datum.
+ North American Vertical Datum.
ADDRESSES
Town of Ripley
Maps are available for inspection at Ripley Town Hall, 110 South Washington Street, Ripley, TN 38063.
Send comments to The Honorable Jon Pavletic, Mayor, 110 South Washington Street, Ripley, TN 38063.
Unincorporated Areas of Lauderdale County
Maps are available for inspection at County Courthouse, 100 Court Square, Ripley, TN.
Send comments to The Honorable Rod Schuh, Mayor, County Courthouse, 100 Court Square, Ripley, TN 38063.
Roanoke County, Virginia, and Incorporated Areas
Back Creek Tributary A | Approximately 2330 feet downstream of U.S. Road 220 | *960 | +960 | Unincorporated Areas of Roanoke County.
| Approximately 2945 feet downstream of U.S. Road 220 | *960 | +960 |
Bradshaw Creek | Approximately 5490 feet downstream of Bradshaw Road at the County Line | None | +1383 | Unincorporated Areas of Roanoke County.
| Approximately 6740 feet upstream of Hidden Cove Road | None | +1850 |
Mason Creek | Approximately at Bendemeer Road | None | +1274 | Unincorporated Areas of Roanoke County.
| Approximately 800 feet upstream of Bradshaw Road | None | +1586 |
Snyder Branch | Approximately 100 feet downstream of South Market Street | *960 | +960 | City of Salem.
| Approximately 2330 feet downstream of U.S. Road 220 | *960 | +960 |
# Depth in feet above ground.
* National Geodetic Vertical Datum.
+ North American Vertical Datum.
ADDRESSES
City of Salem
Maps are available for inspection at 114 North Broad St., Salem, VA 24018.
Send comments to Mr. Forest Jones, City Manager, 114 North Broad St., Salem, VA 24018.
Unincorporated Areas of Roanoke County
Maps are available for inspection at 5204 Bernard Drive SW., Roanoke, VA 24018.
Send comments to The Honorable Michael Wray, Chairman of Board of Supervisors, P.O. Box 29800, Roanoke, VA 24018.

(Catalog of Federal Domestic Assistance No. 83.100, “Flood Insurance.”)

Dated: November 13, 2006.
David I. Maurstad,
Director, Mitigation Division, Federal Emergency Management Agency, Department of Homeland Security.

[FR Doc. E6-19828 Filed 11-22-06; 8:45 am]

BILLING CODE 9110-12-P